DEPARTMENT OF THE INTERIOR

National Park Service

[NPS-WASO-NAGPRA-11961; 2200-1100-665]

Notice of Inventory Completion: Arkansas State University Museum, Jonesboro, AR

AGENCY: National Park Service, Interior.

ACTION: Notice.

SUMMARY: The Arkansas State University Museum has completed an inventory of human remains, in consultation with the appropriate Indian tribes, and has determined that, pursuant to 25 U.S.C. 3001(2), there is a cultural affiliation between the human remains and a present-day Indian tribe. Representatives of any Indian tribe that believes itself to be culturally affiliated with the human remains may contact the Arkansas State University Museum. Repatriation of the human remains to the Indian tribe stated below may occur if no additional claimants come forward.

DATES: Representatives of any Indian tribe that believes it has a cultural affiliation with the human remains should contact the Arkansas State University Museum at the address below by February 25, 2013.

ADDRESSES: Dr. Marti Allen, Director, Arkansas State University Museum, P.O. Box 490, State University, Jonesboro, AR 72467, telephone (870) 972-2074.

SUPPLEMENTARY INFORMATION: Notice is here given in accordance with the Native American Graves Protection and Repatriation Act (NAGPRA), 25 U.S.C. 3003, of the completion of an inventory of human remains under the control of Arkansas State University Museum, Jonesboro, AR. The human remains were removed from the St. Francis River Valley region in Cross and Poinsett counties, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Arkansas State University Museum and Arkansas Archaeological Survey professional staffs in consultation with representatives of the Quapaw Tribe of Indians and The Osage Nation.

History and Description of the Remains

Sometime prior to 1977, human remains representing, at minimum, one individual were removed from an unknown location, most likely in Poinsett County, AR. In June 1977, the human remains were donated by Mr. Curtis Noble of Poinsett County, AR, to the Arkansas State University Museum. No known individual was identified. No associated funerary items are present. The remains were donated by Mr. Curtis Noble as part of his procured collection. The donation record states the collection contains “objects [Noble] collected, mostly from Poinsett County, over a 40 year period.” Although the specific location of removal is unknown, museum officials reasonably believe that the remains were removed from Poinsett County.

In 1958, human remains representing, at minimum, three individuals were removed from the Cherry Valley Mounds (site 3CS40), in Cross County, AR, by Dr. Eugene Wittlake of Arkansas State University. The remains were subsequently donated to the Arkansas State University Museum in November of 1958. No known individuals were identified. No associated funerary objects are present. Situated on the west side of Crowley's Ridge, the site consisted of four mounds numbered one through four and was originally excavated by the Gilcrease Institute of Oklahoma. Dr. Wittlake was given permission by the Gilcrease Institute to excavate only at mound number four. Non-funerary artifacts removed from the site date the human remains to the Mississippian Period (A.D. 1050-1400).

Between 1957 and 1958, human remains representing, at minimum, four individuals were removed from the Walnut Mound (site 3PO57), in Poinsett County, AR, by Dr. Eugene Wittlake of Arkansas State University. The human remains were subsequently donated to the Arkansas State University Museum in 1958. No known individuals were identified. No associated funerary objects are present. The site contained a mound, about 40 feet in diameter and three feet in height, located in a swamp south of Hood Lake and north of Weiner in Poinsett County, AR. Archeological evidence shows that an Archaic village stratum (2000-1000 B.C.), was covered by a Late Baytown burial mound during the Late Woodland Period (A.D. 400-700). The four individuals were discovered in this burial mound. Early Mississippian (A.D. 700-900) occupation of the site is also attested by the presence of shell tempered ceramic sherds.

Between 1959 and 1964, human remains representing, at minimum, 103 individuals were removed from Ballard Mound (site 3PO115), in Poinsett County, AR by Dr. Eugene Wittlake of Arkansas State University. The remains were subsequently donated to the Arkansas State University Museum later that same year. No known individuals were identified. No associated funerary objects are present. Ballard Mound was excavated between 1959 and 1964 by Dr. Wittlake. Non-funerary artifacts removed from the site date the human remains to the Cherry Valley Phase of the Early Mississippian Period (A.D. 1050-1150).

Sometime between 1956 and 1960, human remains representing, at minimum, 16 individuals were removed from the McDuffee site (3CG21), in Craighead County, AR, by unknown individuals. The remains were subsequently donated to the Arkansas State University Museum between 1956 and 1960. No known individuals were identified. No associated funerary objects are present. Excavation records for this site from the Gilcrease Museum in Oklahoma show that the site consisted of a “large village with two mounds.” Non-funerary artifacts removed from the site date the human remains to the Middle Mississippian Period (A.D. 1170-1300).

Sometime prior to 1957, human remains representing, at minimum, 14 individuals were removed from the Huber Site, in Poinsett County, AR, by unknown individuals. The remains were subsequently donated to the Arkansas State University Museum in September of 1957. No known individuals were identified. No associated funerary objects are present. Although no excavation records exist for this site, discussions with a descendant of the site owner suggest that there were at least four mounds on the property. All four mounds have now been land leveled. Non-funerary artifacts removed from the site date the human remains to the Mississippian Period (A.D. 900-1500).

Sometime prior to 1961, human remains representing, at minimum, one individual were removed from the Judd Hill Plantation site, in Poinsett County, AR, by Dr. Eugene Wittlake of Arkansas State University. The remains were subsequently donated to the Arkansas State University Museum in July of 1961. No known individual was identified. No associated funerary objects are present. Non-funerary artifacts removed from the site date the human remains anywhere from the Middle Woodland Period (A.D. 1-500) to the Middle Mississippian Period (A.D. 1170-1300).

In 1957, human remains representing, at minimum, three individuals were removed from the Miller site (3PO24), in Poinsett County, AR, by Dr. Eugene Wittlake of Arkansas State Unviersity. The remains were subsequently donated to the Arkansas State University Museum in November of 1957. No known individuals were identified. No associated funerary objects are present. Non-funerary artifacts removed from the site date the human remains to the Mississippian Period (A.D. 1050-1400).

Oral history evidence presented by representatives of the Quapaw Tribe of Indians indicates that the St. Francis River Valley region, which includes Cross and Poinsett counties, has long been included in the traditional and hunting territory of the Quapaw. French colonial records (A.D. 1700) also indicate that the Quapaw were known to be the only Native American group present at that time in the St. Francis River valley region.

Determinations Made by the Arkansas State University Museum

Officials of the Arkansas State University Museum have determined that:

• Pursuant to 25 U.S.C. 3001(9), the human remains described above represent the physical remains of a minimum of 145 individuals of Native American ancestry.

• Pursuant to 25 U.S.C. 3001(2), there is a relationship of shared group identity that can be reasonably traced between the Native American human remains and the Quapaw Tribe of Indians.

Additional Requestors and Disposition

Representatives of any other Indian tribe that believes itself to be culturally affiliated with the human remains should contact Dr. Marti Allen, Director, Arkansas State University Museum, P.O. Box 490, State University, Jonesboro, AR 72467, telephone (870)-972-2074, before February 25, 2013. Repatriation of the human remains to the Quapaw Tribe of Indians may proceed after that date if no additional claimants come forward.

The Arkansas State University Museum is responsible for notifying the Quapaw Tribe of Indians and The Osage Nation that this notice has been published.

Dated: December 18, 2012.
David Tarler,
Acting Manager, National NAGPRA Program.

[FR Doc. 2013-01347 Filed 1-23-13; 8:45 am]

BILLING CODE 4312-50-P